DEPARTMENT OF ENERGY

Federal Energy Regulatory Commission

[Project No. P-2586-000]

Conecuh River Project; Notice of Meeting To Discuss Compliance With Section 106 of the National Preservation Act

October 7, 2003.

a. Date and Time of Meeting: October 21, 2003, 10 a.m.

b. Place: Alabama Historical Commission, 468 South Perry Street, Montgomery, AL.

c. Contacts: AHC: Amanda L. McBride (SHPO) at 334-343-3184.

FERC: Pennie Lewis-Partee at (202) 502-6018; e-mail pennie.lewispartee@ferc.gov.

d. Purpose of the Meeting: Representatives of the FERC, the AHC, and the licensee for the Conecuh River Project (Project No. 2586) will meet to discuss compliance with Section 106, National Historic Preservation Act, and the opportunities for executing a Programmatic Agreement for the proposed relicensing of the Conecuh Project.

e. Proposed Agenda:

Introduction and Recognition of Participants

Explanation of the Project

Delineation of the Area of Potential Effects

Identification of Historic Properties

Assessment of Effects

Taking Unavoidable Effects into Account

Follow-up Actions

f. All local, state, and federal agencies, Indian Tribes, and interested parties, are hereby invited to attend this meeting as participants.

g. This meeting is posted on the Commission's calendar located at http://www.ferc.gov/EventCalendar/EventsList.aspx along with other related information.

Linda Mitry,
Acting Secretary.

[FR Doc. 03-26059 Filed 10-14-03; 8:45 am]

BILLING CODE 6717-01-P